DEPARTMENT OF HEALTH AND HUMAN SERVICES

Food and Drug Administration

21 CFR Part 888

[Docket No. FDA-2014-N-1205]

Orthopedic Devices; Reclassification of Pedicle Screw Systems, Henceforth To Be Known as Thoracolumbosacral Pedicle Screw Systems, Including Semi-Rigid Systems

Correction

In rule document 2016-31670 beginning on page 96366 in the issue of Friday, December 30, 2016, make the following correction:

On page 96372, in the second column, in the 25th, 51st, and 67th lines, and in the third column, in the tenth line, “June 28, 2018” should read “July 1, 2019”.

[FR Doc. C1-2016-31670 Filed 1-6-17; 8:45 am]

BILLING CODE 1301-00-D